DEPARTMENT OF ENERGY

Federal Energy Regulatory Commission

[Docket No. CP01-419-001, Docket No. CP01-421-001]

Portland General Electric Company; Notice of Amendment

December 5, 2001.

Take notice that on September 28, 2001, Portland General Electric Company (Portland General), tendered for filing pursuant to Section 7 of the Natural Gas Act and parts 157 and 284 of the Commission's regulations, an amendment to its application for blanket certificates of public convenience and necessity and request for waiver and extension of time filed with the Commission on July 27, 2001.

Portland General states that the purpose of the filing is to amend Portland General's application in order to: (1) Specify that Portland General has executed a transportation service agreement for the transportation of natural gas on the Kelso-Beaver Pipeline which gas will be used for Portland General's own consumption; (2) make a conforming change to the pro forma Tariff filed as Exhibit P to the application to reflect Portland General's execution of this agreement; and (3) request waiver of the Part 284 open-access reporting requirements to the extent not fully encompassed by Portland General's request for waiver in its application.

Any person desiring to protest said filing should file a protest with the Federal Energy Regulatory Commission, 888 First Street, NE., Washington, DC 20426, in accordance with section 385.211 of the Commission's Rules and Regulations. All such protests must be filed on or before December 12, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30549 Filed 12-10-01; 8:45 am]

BILLING CODE 6717-01-P